DEPARTMENT OF TRANSPORTATION

Office of the Secretary

Notice of Applications for Certificates of Public Convenience and Necessity and Foreign Air Carrier Permits Filed Under Subpart B (Formerly Subpart Q) During the Week Ending December 22, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-26670.

Date Filed: December 18, 2006.

Due Date for Answers, Conforming Applications, or Motion to Modify Scope: January 8, 2007.

Description: Application of Spirit Airlines, Inc. (“Spirit”) requesting an exemption and a certificate of public convenience and necessity that would authorize Spirit to engage in scheduled foreign air transportation of persons, property and mail between points in the United States, on the one hand, and St. Maarten, on the other hand.

Docket Number: OST-2006-26702.

Date Filed: December 20, 2006.

Due Date for Answers, Conforming Applications, or Motion to Modify Scope: January 10, 2007.

Description: Application of Flying Service N.V. requesting a foreign air carrier permit to engage in (i) charter foreign air transportation of persons and property between Belgium and the United States, either directly or via intermediate points in other countries, with or without stopovers, coextensive with the rights provided under the “open skies” U.S.-Belgium Air Transport Agreement, and (ii) fifth freedom charter service.

Docket Number: OST-2006-26720.

Date Filed: December 21, 2006.

Due Date for Answers, Conforming Applications, or Motion to Modify Scope: January 11, 2007.

Description: Application of Air Midwest Inc. requesting the Department to disclaim jurisdiction over the transfer of its operating authority to Air Midwest, LLC, a newly formed Nevada corporation.

Docket Number: OST-2006-24629.

Date Filed: December 22, 2006.

Due Date for Answers, Conforming Applications, or Motion to Modify Scope: January 12, 2007.

Description: Application of Yangtze River Express Airlines Co., Ltd. requesting a foreign air carrier permit to operate scheduled cargo-only air services between Shanghai, People's Republic of China and Los Angeles, CA, United States of America, via Anchorage, AK, USA (technical stop only).

Barbara J. Hairston,
Supervisory Docket Officer, Docket Operations, Alternate Federal Register Liaison.

[FR Doc. E6-22607 Filed 1-4-07; 8:45 am]

BILLING CODE 4910-9X-P